DEPARTMENT OF COMMERCE

National Oceanic and Atmospheric Administration

RIN 0648-XF679

Fisheries of the Caribbean, Gulf of Mexico, and South Atlantic; Gulf of Mexico State Management Program Amendment for Recreational Red Snapper

AGENCY: National Marine Fisheries Service (NMFS), National Oceanic and Atmospheric Administration (NOAA), Commerce.

ACTION: Notice of intent (NOI) to prepare a draft environmental impact statement (DEIS); request for comments.

SUMMARY: NMFS, Southeast Region, in collaboration with the Gulf of Mexico Fishery Management Council (Council), intends to prepare a DEIS to describe and analyze management alternatives to be included in the State Management Program for Recreational Red Snapper Amendment to the Fishery Management Plan (FMP) for the Reef Fish Resources of the Gulf of Mexico (State Management Program Amendment). The State Management Program Amendment will consider alternatives that would allocate the total recreational red snapper annual catch limit (ACL) for the Gulf of Mexico (Gulf) among the individual Gulf states of Alabama, Florida, Louisiana, Mississippi, and Texas, and designate the components of the recreational sector that would be included under a state's management program (private angling and/or charter vessel/headboat (for-hire) components). These decisions would form the basis for individual state amendments to the FMP to allow each of the Gulf states to establish management measures for the recreational harvest of red snapper in adjacent Gulf Federal waters. State management would enable each state to specify the management measures that best meet the needs of its constituents, thereby addressing regional socio-economic concerns. The purpose of this NOI is to inform the public of upcoming opportunities to provide additional comments on the scope of issues to be addressed in the DEIS, as specified in this notice.

DATES: Written comments on the scope of issues to be addressed in the DEIS must be received by NMFS by February 16, 2018.

ADDRESSES: You may submit comments on the Amendment identified by “NOAA-NMFS-2017-0122” by any of the following methods:

• Electronic submissions: Submit electronic comments via the Federal e-Rulemaking Portal: http://www.regulations.gov. Go to www.regulations.gov/#!docketDetail;D=NOAA-NMFS-2017-0122, click the “Comment Now!” icon, complete the required fields, and enter or attach your comments

• Mail: Submit written comments to Lauren Waters, Southeast Regional Office, NMFS, 263 13th Avenue South, St. Petersburg, FL 33701.

Instructions: Comments sent by any other method, to any other address or individual, or received after the end of the comment period, may not be considered by NMFS. All comments received are a part of the public record and will generally be posted for public viewing on www.regulations.gov without change. All personal identifying information (e.g., name, address, etc.), confidential business information, or otherwise sensitive information submitted voluntarily by the sender will be publicly accessible. NMFS will accept anonymous comments (enter “N/A” in the required fields if you wish to remain anonymous).

FOR FURTHER INFORMATION CONTACT: Lauren Waters, Southeast Regional Office, telephone: (727) 824-5305; or email: Lauren.Waters@noaa.gov.

SUPPLEMENTARY INFORMATION: For Gulf red snapper the recreational sector is separated into Federal for-hire (charter vessels and headboats) and private angling components, each managed under their respective recreational quotas and annual catch targets (ACTs). This separation will end after the 2022 fishing year if the Council takes no further action. NMFS annually projects the recreational season length for each component based on the ACTs and the projected average weights of fish and catch rates derived from historical trends. Despite increases in the total red snapper quota, the recreational season length for the private angler component has become progressively shorter.

Fishermen from different Gulf states have requested more flexibility in recreational red snapper management so that regulations provide greater socio-economic benefits to their particular area. In June 2012, Louisiana requested that the Council develop a recreational red snapper regional management pilot program. As a result of the Louisiana request, the Council initiated development of Amendment 39 to the FMP. Amendment 39 considered several actions that are also currently being considered by the Council, such as the mechanism for implementing regional management, apportioning the recreational annual catch limit (ACL) among the Gulf states, and modifying post-season accountability measures (AMs) consistent with the regional management approach.

In May 2013, NMFS published an NOI to prepare a draft environmental impact statement for Amendment 39 and solicited public comment (78 FR 27956, May 13, 2013). As explained in that NOI, the intent of Amendment 39 was to allow participating states or regions to design management options to better fit their needs. However, red snapper would remain a federally managed species. The Council and NMFS would continue to oversee management of the stock. This includes continuing to comply with the Magnuson-Stevens Fishery Conservation and Management Act (Magnuson-Stevens Act) and the mandate to ensure the red snapper annual recreational quota is not exceeded and that conservation objectives are achieved. The Council's Scientific and Statistical Committee (SSC) would continue to determine the acceptable biological catch (ABC) for red snapper, and the Council and NMFS would determine the total recreational red snapper quota that could be allocated among regions.

During the development of Amendment 39, the Council received public input on actions and alternatives regarding regional management of recreational red snapper at numerous public hearing meetings and Council meetings held throughout the Gulf states from October 2012 through January 2016, as well as via webinar. Additionally the Council's Reef Fish Advisory Panel reviewed regional management actions and alternatives in September 2015. The Environmental Protection Agency published a Notice of Availability for the DEIS for Amendment 39 in December 2015 (80 FR 79041, December 18, 2015). However, in January 2016, the Council voted to postpone further work on Amendment 39. In April 2017, the Council began discussing regional management concepts again and decided to develop new amendments to provide the management flexibility desired by the Gulf states and their constituents. Similar to Amendment 39, the intent is to allow each participating state to implement management measures to better fit its needs, while achieving the same conservations goals as the Federal management measures in existence at any given time.

The Council is currently considering several FMP amendments that would allow each Gulf state to manage the recreational harvest of red snapper in Federal waters adjacent to their state. The State Management Program Amendment will consider alternatives to apportion the total recreational red snapper ACL for the Gulf among the individual Gulf states and determine which components of the recreational sector would be included under a state's management program (private angling and/or charter vessel/headboat (for-hire) components). Five separate FMP amendments, one for each Gulf state, will consider alternatives to establish the state-specific authority structure, such as delegation or the use of conservation equivalency plans, and state-specific post-season accountability measures for each state that participates in the State Management Program for recreational red snapper (State Amendments).

NMFS, in collaboration with the Council, will develop a DEIS to describe and analyze alternatives to address the management needs described above including the “no action” alternative. The State Management Program Amendment DEIS will describe and analyze the apportionment and recreational sector component alternatives as well as describe and analyze the authority structure and accountability measure alternatives included in the five individual State Amendments. Thus, NMFS anticipates that the State Management Program Amendment EIS will include the relevant National Environmental Policy Act (NEPA) analyses for all six FMP amendments. However, NMFS will continue to evaluate this determination as the State Amendments are developed and will provide additional NEPA analysis as appropriate.

In accordance with NOAA's Administrative Order 216-6A, accompanying NEPA Procedures (companion manual), and the Scoping Process, NMFS, in collaboration with the Council, has identified preliminary environmental issues as a means to initiate discussion for scoping purposes only. The public is invited to provide written comments on the preliminary issues, which are identified as actions and alternatives in the State Management Program Amendment draft options paper and action guide. These preliminary issues may not represent the full range of issues that eventually will be evaluated in the DEIS. A copy of the State Management Program Amendment draft options paper and action guide are available at http://sero.nmfs.noaa.gov/sustainable_fisheries/gulf_fisheries/reef_fish/2017/RSStateManagement/RSStateManageindex.html.

After the DEIS associated with the State Management Program Amendment is completed, it will be filed with the Environmental Protection Agency (EPA). After filing, the EPA will publish a notice of availability (NOA) of the DEIS for public comment in the Federal Register. The DEIS will have a 45-day comment period. This procedure is pursuant to regulations issued by the Council on Environmental Quality (CEQ) for implementing the procedural provisions of the NEPA (40 CFR parts 1500-1508) and to NOAA's Administrative Order 216-6A regarding NOAA's compliance with NEPA and the CEQ regulations.

The Council and NMFS will consider public comments received on the DEIS in developing the final environmental impact statement (FEIS), and before the Council votes to submit the State Management Program Amendment to NMFS for Secretarial review, approval, and implementation under the Magnuson-Stevens Act. NMFS will announce in the Federal Register the availability of the final amendment and FEIS for public review during the Secretarial review period, and will consider all public comments prior to final agency action to approve, disapprove, or partially approve the final amendment. During Secretarial review, NMFS will also file the FEIS with the EPA and the EPA will publish an NOA for the FEIS in the Federal Register.

NMFS will announce, through a notice published in the Federal Register, all public comment periods on the final amendment, its proposed implementing regulations, and the availability of its associated FEIS. NMFS will consider all public comments received during the Secretarial review period, whether they are on the final amendment, the proposed regulations, or the FEIS, prior to final agency action.

Authority: 16 U.S.C. 1801 et seq.

Dated: January 10, 2018.
Emily H. Menashes,
Acting Director, Office of Sustainable Fisheries, National Marine Fisheries Service.

[FR Doc. 2018-00666 Filed 1-16-18; 8:45 am]

BILLING CODE 3510-22-P